DEPARTMENT OF TRANSPORTATION

Federal Aviation Administration

14 CFR Part 39

[Docket No. FAA-2005-22308; Directorate Identifier 2005-NM-160-AD; Amendment 39-14255; AD 2005-18-15]

RIN 2120-AA64

Airworthiness Directives; Dassault Model Falcon 2000EX Airplanes

AGENCY: Federal Aviation Administration (FAA), Department of Transportation (DOT).

ACTION: Final rule; request for comments.

SUMMARY: The FAA is adopting a new airworthiness directive (AD) for certain Dassault Model Falcon 2000EX airplanes. This AD requires revising the airplane flight manual (AFM) to extend runway length limits for takeoff and landing. This AD also provides for an optional terminating action for the AFM revision. This AD results from an event in which braking efficiency was temporarily lost during landing, but was recovered after the flightcrew fully released and then reapplied the brakes. We are issuing this AD to prevent a runway overrun in the event of loss of braking function, which could result in injury to passengers or flightcrew and damage to the airplane.

DATES: This AD becomes effective September 22, 2005.

The Director of the Federal Register approved the incorporation by reference of certain publications listed in the AD as of September 22, 2005.

We must receive comments on this AD by November 7, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Dassault Falcon Jet, P.O. Box 2000, South Hackensack, New Jersey 07606, for service information identified in this AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Discussion

The Direction Générale de l'Aviation Civile (DGAC), which is the airworthiness authority for France, notified us that an unsafe condition may exist on certain Dassault Model Falcon 2000EX airplanes. The DGAC advises us that an event occurred in which braking efficiency was temporarily lost during landing, but was recovered after the flightcrew fully released and then reapplied the brakes. This event has been attributed to improper communication of acceleration information between the inertial reference system (IRS) and the brake system control unit (BSCU). This condition, if not corrected, could result in a runway overrun in the event of loss of braking function, which could result in injury to passengers or flightcrew and damage to the airplane.

Relevant Service Information

Dassault has issued Temporary Change (TC) 17, dated July 26, 2005, to the Dassault Falcon 2000EX EASy Airplane Flight Manual, DGT88898. The TC describes procedures for revising the Limitations and Performance sections of the airplane flight manual (AFM) to extend runway length limits for takeoff and landing. The procedures include maximum allowable weights and field length limits for takeoff and landing.

Dassault has also issued Service Bulletin F2000EX-80, dated May 11, 2005. The service bulletin describes procedures for modifying the wiring that links the IRS to the BCSU. The modification establishes a direct wiring link between the IRS and the BSCU, which makes the braking function fully independent of the enhanced avionics system. Accomplishing the modification terminates the AFM revision.

We have determined that accomplishing the actions specified in the TC will adequately address the unsafe condition. The DGAC mandated the TC and issued French emergency airworthiness directive UF-2005-140, dated July 26, 2005, to ensure the continued airworthiness of these airplanes in France.

FAA's Determination and Requirements of This AD

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent a runway overrun in the event of loss of braking function, which could result in injury to passengers or flightcrew and damage to the airplane. This AD requires accomplishing the actions specified in the TC described previously, except as discussed under “Differences Among this AD, French Emergency Airworthiness Directive, and TC.” This AD also provides for an optional terminating action for the AFM revision.

Differences Among This AD, French Emergency Airworthiness Directive, and TC

Although the French emergency airworthiness directive specifies a compliance time of before the next flight after the effective date of the French emergency airworthiness directive for the AFM revision, we specify a compliance time of 10 days after the effective date of this AD. We find that this will prevent airplanes from being grounded unnecessarily without adversely affecting the safety of the airplanes.

The French emergency airworthiness directive requires accomplishing the terminating action before December 31, 2006. This AD will provide for doing the terminating action as an option, and we may consider further rulemaking to require the terminating action.

Interim Action

We consider this AD interim action. We are currently considering requiring the modification of the wiring that links the IRS to the BSCU, which would terminate the AFM revision required by this AD. However, the planned compliance time for the installation of the modification would allow enough time to provide notice and opportunity for prior public comment on the merits of the modification.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2005-22308; Directorate Identifier 2005-NM-160-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-18-15 Dassault Aviation: Amendment 39-14255. Docket No. FAA-2005-22308; Directorate Identifier 2005-NM-160-AD.

Effective Date

(a) This AD becomes effective September 22, 2005.

Affected ADs

(b) None.

Applicability

(c) This AD applies to Dassault Model Falcon 2000EX airplanes, certificated in any category, with serial numbers 6, and 28 and subsequent; except those on which Dassault Aviation Modification F2000EX M2675 has been done during production.

Unsafe Condition

(d) This AD results from an event in which braking efficiency was temporarily lost during landing, but was recovered after the flightcrew fully released and then reapplied the brakes. We are issuing this AD to prevent a runway overrun in the event of loss of braking function, which could result in injury to passengers or flightcrew and damage to the airplane.

Compliance

(e) You are responsible for having the actions required by this AD performed within the compliance times specified, unless the actions have already been done.

Airplane Flight Manual (AFM) Revision

(f) Within 10 days after the effective date of this AD: Revise the Limitations and Performance sections of Dassault Falcon EASy F2000EX AFM, DGT88898, to include the information in Dassault Temporary Change (TC) 17, dated July 26, 2005, as specified in the TC. The TC includes procedures for extending runway length limits for takeoff and landing. Operate the airplane according to the limitations and procedures in the TC.

Note 1: This may be done by inserting a copy of Dassault TC 17 in the AFM. When the TC has been included in the general revisions of the AFM, the general revisions may be inserted in the AFM, provided the relevant information in the general revision is identical to that in Dassault TC 17.

Optional Terminating Action

(g) Modifying the wiring that links the inertial reference system and the brake system control unit, in accordance with Dassault Service Bulletin F2000EX-80, dated May 11, 2005, ends the requirements for the AFM revision required by paragraph (f) of this AD. After accomplishing the modification, Dassault TC 17, dated July 26, 2005, may be removed from the AFM.

Alternative Methods of Compliance (AMOCs)

(h) The Manager, International Branch, ANM-116, Transport Airplane Directorate, FAA, has the authority to approve AMOCs for this AD, if requested in accordance with the procedures found in 14 CFR 39.19.

Related Information

(i) French airworthiness directive UF-2005-140, dated July 26, 2005, also addresses the subject of this AD.

Material Incorporated by Reference

(j) You must use Dassault Temporary Change 17, dated July 26, 2005, to the Dassault Falcon 2000EX EASy Airplane Flight Manual, DGT88898, to perform the actions that are required by this AD, unless the AD specifies otherwise. If accomplished, you must use Dassault Service Bulletin F2000EX-80, dated May 11, 2005, to perform the optional terminating action specified in this AD. The Director of the Federal Register approved the incorporation by reference of these documents in accordance with 5 U.S.C. 552(a) and 1 CFR part 51. Contact Dassault Falcon Jet, P.O. Box 2000, South Hackensack, New Jersey 07606, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 24, 2005.
Ali Bahrami,
Manager, Transport Airplane Directorate, Aircraft Certification Service.

[FR Doc. 05-17599 Filed 9-6-05; 8:45 am]

BILLING CODE 4910-13-P